DEPARTMENT OF DEFENSE

Office of the Secretary

[Docket ID: DOD-2012-OS-0006]

Proposed Collection; Comment Request

AGENCY: Office of the Under Secretary of Defense (Personnel and Readiness), DoD.

ACTION: Notice.

SUMMARY: In compliance with Section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by March 23, 2012.

ADDRESSES: You may submit comments, identified by docket number and title, by any of the following methods:

• Federal eRulemaking Portal: http://www.regulations.gov. Follow the instructions for submitting comments.

• Mail: Federal Docket Management System Office, 4800 Mark Center Drive, Suite 02G09, East Tower, 2nd Floor, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) (Military Personnel Policy)/Accession Policy, ATTN: Major Justin DeVantier, or call (703) 695-5527.

Title, Associated Form, and OMB Control Number: Request for Reference, DD Form 370, OMB Control Number: 0704-0167.

Needs and Uses: DD Form 370 is used by recruiters to obtain reference information on applicants who have admitted to committing a civil or criminal offense. The respondents may provide information that would allow the applicant to be considered for a waiver and, therefore, continue with the application process.

Affected Public: State, Local or Tribal Government.

Annual Burden Hours: 4,175 hours.

Number of Respondents: 25,000.

Responses per Respondent: 1.

Average Burden per Response: .167 hours.

Frequency: On occasion.

SUPPLEMENTARY INFORMATION:

Summary of Information Collection

The DD Form 370 is a form in which an applicant, who requests a waiver to enter the Armed Forces, may provide a reference from their respective school, agency, or individual. The school, agency, and/or individual shall complete and sign and date the questionnaire to confirm the information. The information provided by the referring person will assist in determining whether or not the applicant meets the eligibility standards to become a member of the Armed Forces of the United States.

Dated: January 17, 2012.
Aaron Siegel,
Alternate OSD Federal Register Liaison Officer, Department of Defense.

[FR Doc. 2012-1144 Filed 1-20-12; 8:45 am]

BILLING CODE 5001-06-P